SECURITIES AND EXCHANGE COMMISSION

[File No. 500-1]

In the Matter of Dragon Bright Mintai Botanical Technology Cayman Ltd., JinZangHuang Tibet Pharmaceuticals, Inc., and Macau Resources Group Ltd.; Order of Suspension of Trading

May 20, 2016.

It appears to the Securities and Exchange Commission that there is a lack of current and accurate information concerning the securities of Dragon Bright Mintai Botanical Technology Cayman Ltd. (CIK No. 1516810), a Cayman Islands corporation with its principal place of business listed as Hong Kong, China with stock quoted on OTC Link (previously, “Pink Sheets”) operated by OTC Markets Group, Inc. (“OTC Link”) under the ticker symbol DGBMF, because it has not filed any periodic reports since the period ended December 31, 2012. On November 19, 2015, a delinquency letter was sent by the Division of Corporation Finance to Dragon Bright Mintai Botanical Technology Cayman Ltd. requesting compliance with its periodic filing obligations, and Dragon Bright Mintai Botanical Technology Cayman Ltd. received the delinquency letter on November 20, 2015, but failed to cure its delinquencies.

It appears to the Securities and Exchange Commission that there is a lack of current and accurate information concerning the securities of JinZangHuang Tibet Pharmaceuticals, Inc. (CIK No. 910832), a void Delaware corporation with its principal place of business listed as Shandong Province, China with stock quoted on OTC Link under the ticker symbol JZHG, because it has not filed any periodic reports since the period ended March 31, 2013. On November 3, 2015, a delinquency letter was sent by the Division of Corporation Finance to JinZangHuang Tibet Pharmaceuticals, Inc. requesting compliance with its periodic filing obligations, and JinZangHuang Tibet Pharmaceuticals, Inc. received the delinquency letter on November 11, 2015, but failed to cure its delinquencies.

It appears to the Securities and Exchange Commission that there is a lack of current and accurate information concerning the securities of Macau Resources Group Ltd. (CIK No. 1557436), a British Virgin Islands corporation with its principal place of business listed as Hong Kong, China with stock quoted on OTC Link under the ticker symbol MRGLF, because it has not filed any periodic reports since the period ended December 31, 2013. On November 19, 2015, a delinquency letter was sent by the Division of Corporation Finance to Macau Resources Group Ltd.'s counsel requesting compliance with its periodic filing obligations, and Macau Resources Group Ltd.'s counel received the delinquency letter on November 20, 2015, but the issuer failed to cure its delinquencies.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 20, 2016, through 11:59 p.m. EDT on June 3, 2016.

By the Commission.
Brent J. Fields,
Secretary.

[FR Doc. 2016-12289 Filed 5-20-16; 11:15 am]

BILLING CODE 8011-01-P